DEPARTMENT OF HEALTH AND HUMAN SERVICES

National Institutes of Health

Office of Biotechnology Activities; Recombinant DNA Research: Amended Notice of Meeting

ACTION: Notice of cancellation of consideration of a proposed action under Section III-A-1 of the NIH Guidelines for Research Involving Recombinant DNA Molecules (NIH Guidelines).

SUMMARY: Notice of a discussion of a proposed action under Section III-A-1 published on May 24, 2010 (75 FR 28811) is withdrawn. The discussion that was to be held at the June 16-17, 2010 meeting of the NIH Recombinant DNA Advisory Committee has been deferred at the request of the principal investigator.

FOR FURTHER INFORMATION CONTACT: OBA by e-mail at oba@od.nih.gov, or telephone at 301-496-9838, if you have questions, or require additional information.

Dated: May 26, 2010.
Jacqueline Corrigan-Curay,
Acting Director, Office of Biotechnology Activities, National Institutes of Health.

[FR Doc. 2010-13484 Filed 6-3-10; 8:45 am]

BILLING CODE 4140-01-P